EMPLOYMENT AND TRAINING ADMINISTRATION

Federal-State Unemployment Compensation Program: Certifications for 2020 Under the Federal Unemployment Tax Act; Correction

AGENCY: Employment and Training Administration, Labor.

ACTION: Notice; correction.

SUMMARY: The Employment and Training Administration, Labor, published a document in the Federal Register of November 6, 2020, concerning the annual certifications under the Federal Unemployment Tax Act. The document contained draft verbiage instead of the final approved verbiage.

SUPPLEMENTARY INFORMATION:

Correction

In the Federal Register of November 6, 2020, in FR Doc. 2020-24650 (85 FR 71101), on page 71101, correct under the SUMMARY caption, in paragraph two, column two to read:

Enclosed, pursuant to the requirements of the Federal Unemployment Tax Act, are an original and a copy of two separate certifications regarding state unemployment compensation laws, for the 12-month period ending on October 31, 2020. One certification is for the “normal” federal unemployment tax credit required under the Internal Revenue Code of 1986, and the other certification is for the “additional” tax credit under the Code. Both certifications list all 53 jurisdictions.

In paragraph four, column two, correct to read:

CERTIFICATION OF STATES TO THE SECRETARY OF THE TREASURY PURSUANT TO SECTION 3304(c) OF THE INTERNAL REVENUE CODE OF 1986

Pursuant to Section 3304(c) of the Internal Revenue Code of 1986 (26 U.S.C. 3304(c)), I hereby certify to the Secretary of the Treasury the following States (including the District of Columbia, the Commonwealth of Puerto Rico, and the Virgin Islands), for the 12-month period ending on October 31, 2020. These States' unemployment compensation laws, which have previously been approved under the Federal Unemployment Tax Act, meet the requirements of Section 3304(c) of the Code;

And in paragraph four, column three, correct to read:

CERTIFICATION OF STATE UNEMPLOYMENT COMPENSATION LAWS TO THE SECRETARY OF THE TREASURY PURSUANT TO SECTION 3303(b)(l) OF THE INTERNAL REVENUE CODE OF 1986

Pursuant to Section 3303(b)(1) of the Internal Revenue Code of 1986 (26 U.S.C. 3303(b)(l)), I hereby certify to the Secretary of the Treasury the unemployment compensation laws of the following States (including the District of Columbia, the Commonwealth of Puerto Rico, and the Virgin Islands), for the 12-month period ending on October 31, 2020. These States' laws have previously been certified under Section 3303(b)(3) of the Code.

John Pallasch,
Assistant Secretary for Employment and Training, Labor.

[FR Doc. 2020-26855 Filed 12-4-20; 8:45 am]

BILLING CODE 4510-FW-P